COMMISSION ON CIVIL RIGHTS

Notice of Public Meeting of the Oklahoma Advisory Committee for a Meeting To Hear Testimony Regarding the School to Prison Pipeline in the State

AGENCY: U.S. Commission on Civil Rights.

ACTION: Notice of meeting.

SUMMARY: Notice is hereby given, pursuant to the provisions of the rules and regulations of the U.S. Commission on Civil Rights (Commission) and the Federal Advisory Committee Act that the Oklahoma Advisory Committee (Committee) will hold a meeting on Friday, September 11, 2015, for the purpose of hearing presenters testify about civil rights concerns regarding school discipline policies and juvenile justice administration as they relate to disparities in school disciplinary action and involvement in the juvenile justice system on the basis of race, color, and/or sex.

Members of the public are invited and welcomed to make statements into the record during the open forum period from 4:15-4:45 pm. Members of the public are also entitled to submit written comments; the comments must be received in the regional office by September 30, 2015. Written comments may be mailed to the Midwestern Regional Office, U.S. Commission on Civil Rights, 55 W. Monroe St., Suite 410, Chicago, IL 60615. They may also be faxed to the Commission at (312) 353-8311, or emailed to Melissa Wojnaroski, Civil Rights Analyst, at mwojnaroski@usccr.gov. Persons who desire additional information may contact the Midwestern Regional Office at (312) 353-8311.

If persons who will attend the meeting require accommodations based on a disability, please contact Carolyn Allen at callen@usccr.gov at the Midwestern Regional Office at least ten (10) working days before the scheduled date of the meeting.

Records and documents discussed during the meeting will be available for public viewing prior to and after the meeting at: https://database.faca.gov/committee/meetings.aspx?cid=269 and clicking on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

Opening Remarks 8-8:15 a.m.

• Panel 1: 8:15 a.m.-9:30 a.m.—School Administrator Panel

• Panel 2: 9:45 a.m.-11:00 a.m.—Academic Panel

• Panel 3: 11:15 a.m.-12:30 p.m.—Community Panel

Break 12:30 p.m.-1:30 p.m.

• Panel 4: 1:30 p.m.-2:45 p.m.—Government Panel

• Panel 5: 3:00 p.m.-4:15 p.m.—Teacher Panel

• Open Forum 4:15-4:45 p.m.—Public Participation

Closing Remarks 4:45-5 p.m.

DATES: The meeting will be held on Friday, September 11, 2015, from 8 a.m.-5 p.m.

ADDRESSES: The meeting will be held at the Oklahoma City University School of Law, Crowe & Dunlevy Commons, 800 N. Harvey Avenue, Oklahoma City 73102.

FOR FURTHER INFORMATION CONTACT: Melissa Wojnaroski, DFO, at 312-353-8311 or mwojnaroski@usccr.gov.

Dated: August 17, 2015.
David Mussatt,
Chief, Regional Programs Unit.

[FR Doc. 2015-20664 Filed 8-20-15; 8:45 am]

BILLING CODE 6335-01-P